DEPARTMENT OF COMMERCE

Foreign-Trade Zones Board

[B-59-2023]

Foreign-Trade Zone (FTZ) 84, Notification of Proposed Production Activity; KMP USA LLC; (Automotive Parts); Katy, Texas

KMP USA LLC submitted a notification of proposed production activity to the FTZ Board (the Board) for its facility in Katy, Texas within FTZ 84. The notification conforming to the requirements of the Board's regulations (15 CFR 400.22) was received on November 13, 2023.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include: camshaft bushing kits; camshaft kits; connecting rods (con rod) and main bearings kits; con rod bearings kits; con rod bolt kits; crankshaft kits; crankshaft thrust washers kits; cylinder head assemblies; cylinder head bolt kits; cylinder liner and seal kits; engine filter kits; engine overhaul gasket kits; engine long block assemblies; engine oil pump kits; engine overhaul kits; engine piston and liner kits; engine sensor kits; engine short block assemblies; engine valve collet kits; engine valve kits; engine valve seal kits; engine valvetrain kits; excavator bucket pin and bushing kits; expansion plug kits; fuel injector seal kits; fuel line kits; fuel solenoid kits; hydraulic cylinder seal kits; engine brake gasket kits; engine valve guide kits; main bearing kits; piston kits; piston kit and connecting rod assemblies; piston pin and retainer kits; piston ring sets; spindle repair kits; transmission oil pump kits; turbocharger gasket kits; V-belt sets; water pump kits; and, water pump repair kits (duty rate ranges from duty-free to 5.8%).

The proposed foreign-status materials and components include: balancer shafts (cast iron); ball bearings (steel); bolts, studs or screws (steel); copper and aluminum bushings for balance shaft, camshafts (piece or set), connecting rods, crankshafts, equipment arm or bucket links, front cover or accessory drives, hydraulic cylinder rod ends and, spindles; camshafts (cast iron and steel); steel circlips; clutch alignment tools (plastic); clutch assemblies (aluminum and steel); clutch plates (aluminum, fiber and, steel); clutch release levers (copper and steel); clutch tension springs (copper and steel); coil solenoids (cast iron and steel); connecting rods (steel); half, pair or, set of connecting rod bearings (standard, undersize or oversize) (copper and aluminum); connecting rod end slipper bearing kits (copper, aluminum); pressure plate and cover assemblies (aluminum and steel); crankshafts (cast iron and steel); cylinder blocks (cast iron); bare or assembled cylinder heads (cast iron and steel); cylinder head injector sleeves (brass, copper and, steel); engine block cylinder liners (cast iron and steel); engine mounted air compressor cylinder liners (cast iron and steel); cylinder liner seals (rubber and plastic); cylinder liner shims (brass and steel); dowel pins (steel); dowel pin alignment inserts, dowel rings (steel); air, fuel, oil and, water engine filters (plastic, aluminum and, steel); engine oil cooler cores (aluminum, cast iron, copper and, steel); engine oil pumps (aluminum, cast iron and, steel); engine overhaul gasket kit; engine piston: body, crown, pins, skirts and, rings (compression, oil control or set) (aluminum, cast iron and, steel); engine push rods (steel); engine pressure and temperature sensors (plastic and brass); engine intake or exhaust valves (steel); engine valve crossheads (cast iron); engine intake or exhaust valve guides (steel); engine valve lash caps (steel); engine valve lock half: collet or keepers (steel); engine valve rotators (steel); engine intake or exhaust valve seals (plastic and steel); engine intake or exhaust valve seats (steel); inner or lower engine intake or exhaust valve springs (steel); upper or lower engine valve spring retainers (steel); engine water pumps, impeller, shafts and spacers (aluminum, cast iron, plastic and, steel); exhaust manifold sleeves (steel); expansion plugs (steel); fuel lines (aluminum and steel); fuel priming pumps, mechanical engine transfer pumps (aluminum, cast iron, steel and, plastic); gaskets for accessory drives, blower end plates, brake and cam follower housings, cylinder heads, drain plugs, engine mounted compressors, exhaust manifold, flanges, front covers, fuel pumps, injector sleeves, oil cooler covers, oil coolers, oil pans, oil pick up tubes, oil pumps, pre-combustion chambers, rear covers, rear housing rope seals, turbocharger oil drains, turbochargers, valve covers, and water pumps made from paper, rubber, steel, copper and, graphite; gear (balancer, camshaft, crankshaft, idler pump drive) (steel); grease fittings (aluminum and steel); rubber hoses; hour meter gauges (aluminum, plastic, glass and, steel); hydraulic cylinder seals (back up rings, buffer rings, dust seals, packing, piston rings, rings) (rubber and plastic); hydraulic cylinder wear rings (plastic); aluminum and steel hose clips; liquid gasket makers (plastic); steel lockwire; standard, undersize or oversize main bearings (aluminum, copper); water pump mechanical seals (steel and plastic); steel needle roller bearings; steel and plastic nuts; front or rear crankshaft/cover oil seals (steel, rubber and, plastic); rubber and plastic O-rings; equipment arm, cylinder rod or bucket link steel pins; engine mounted air compressor piston assemblies (aluminum, cast iron and, steel); piston cooling nozzles (steel, plastic and, cast iron); pre-combustion chambers (steel); engine oil cooler housing pressure relief plungers (steel and plastic); socket, ball or adjuster rocker arm inserts (steel and plastic); rocker arm rollers, pins and, supports (cast iron, brass and steel); intake or exhaust rocker levers (cast iron and steel); rocker lever shafts (cast iron, steel); steel roller bearings; rubber and plastic seals; engine block and cylinder head steel spacer plates; camshaft follower tappets (steel, brass and, cast iron); thermostat engine coolant regulator (aluminum, brass and, steel); standard, undersize or oversize thrust bearings (aluminum, copper and steel); crankshaft thrust blocks (brass and steel); steel thrust plates; standard, undersize or oversize thrust washers (aluminum, copper and, steel); transmission oil pumps (aluminum, cast iron and, steel); turbochargers (aluminum, cast iron, steel and, plastic); universal joint assemblies (cast iron and steel); engine mounted air compressor unloader valve caps and bodies (aluminum and cast iron); single or set rubber V-belts; aluminum and steel valves (part of engine mounted air compressor); steel and brass washers; water temperature gauges (aluminum, plastic, glass and, steel); steel wear plates (part of engine mounted air compressor); steel wear sleeves; and, steel woodruff keys (duty rate ranges from duty-free to 9%). The request indicates that certain materials/components are subject to duties under section 301 of the Trade Act of 1974 (section 301), depending on the country of origin. The applicable section 301 decisions require subject merchandise to be admitted to FTZs in privileged foreign status (19 CFR 146.41).

Public comment is invited from interested parties. Submissions shall be addressed to the Board's Executive Secretary and sent to: ftz@trade.gov. The closing period for their receipt is January 2, 2024.

A copy of the notification will be available for public inspection in the “Online FTZ Information System” section of the Board's website.

For further information, contact Christopher Wedderburn at Chris.Wedderburn@trade.gov.

Dated: November 17, 2023.
Elizabeth Whiteman,
Executive Secretary.

[FR Doc. 2023-25834 Filed 11-21-23; 8:45 am]

BILLING CODE 3510-DS-P